Title 3—

The President

Presidential Determination No. 2016-05 of January 13, 2016

Unexpected Urgent Refugee and Migration Needs

Memorandum for the Secretary of State

By the authority vested in me as President by the Constitution and the laws of the United States, including section 2(c)(1) of the Migration and Refugee Assistance Act of 1962 (the “Act”) (22 U.S.C. 2601(c)(1)), I hereby determine, pursuant to section 2(c)(1) of the Act, that it is important to the national interest to furnish assistance under the Act, in an amount not to exceed $70 million from the United States Emergency Refugee and Migration Assistance Fund, for the purpose of meeting unexpected urgent refugee and migration needs related to the U.S. Refugee Admissions Program, through contributions and other assistance to international and nongovernmental organizations funded through the Bureau of Population, Refugees, and Migration of the Department of State. Funds will be used by the Department of State to meet the unexpected urgent need for additional resources within the U.S. Refugee Admissions Program, in light of the unprecedented number of refugees in need of resettlement.

You are authorized and directed to publish this memorandum in the Federal Register.

THE WHITE HOUSE,

Washington, January 13, 2016

[FR Doc. 2016-24165

Filed 10-3-16; 11:15 am]

Billing code 4710-10-P